DEPARTMENT OF COMMERCE

International Trade Administration

[A-570-970]

Multilayered Wood Flooring From the People's Republic of China: Final Results of Antidumping Duty Administrative Review and Final Determination of No Shipments; 2021-2022

AGENCY: Enforcement and Compliance, International Trade Administration, Department of Commerce.

SUMMARY: The U.S. Department of Commerce (Commerce) determines that Jiangsu Senmao Bamboo and Wood Industry Co., Ltd. (Senmao) made sales of multilayered wood flooring (wood flooring) from the People's Republic of China (China) at prices below normal value during the period of review (POR) December 1, 2021, through November 30, 2022. Commerce also determines that certain companies had no shipments during the POR.

DATES: Applicable May 1, 2024.

FOR FURTHER INFORMATION CONTACT: Davyd Williams, AD/CVD Operations, Office VIII, Enforcement and Compliance, International Trade Administration, U.S. Department of Commerce, 1401 Constitution Avenue NW, Washington, DC 20230; telephone: (202) 482-4338.

SUPPLEMENTARY INFORMATION:

Background

Commerce published the preliminary results of the administrative review on December 26, 2023.¹ For a complete description of the events that occurred since Commerce published the Preliminary Results, see the Issues and Decision Memorandum.² Commerce conducted this review in accordance with section 751(a) of the Tariff Act of 1930, as amended (the Act).

¹ See Multilayered Wood Flooring from the People's Republic of China: Preliminary Results of the Antidumping Duty Administrative Review, Preliminary Determination of No Shipments, and Rescission of Review, in Part; 2021-2022, 88 FR 88869 (December 26, 2023) (Preliminary Results), and accompanying Preliminary Decision Memorandum (PDM).

² See Memorandum, “Issues and Decision Memorandum for the Final Results of the 2021-2022 Administrative Review of the Antidumping Duty Order on Multilayered Wood Flooring from the People's Republic of China,” dated concurrently with, and hereby adopted by, this notice (Issues and Decision Memorandum).

Scope of the Order ³

³ See Multilayered Wood Flooring from the People's Republic of China: Notice of Amended Final Affirmative Determination of Sales at Less than Fair Value and Antidumping Duty Order, 76 FR 76690 (December 8, 2011), as amended in Multilayered Wood Flooring from the People's Republic of China: Amended Antidumping and Countervailing Duty Orders, 77 FR 5484 (February 3, 2012) (collectively, Order); see also Multilayered Wood Flooring from the People's Republic of China: Final Clarification of the Scope of the Antidumping and Countervailing Duty Orders, 82 FR 27799 (June 19, 2017).

The product covered by the Order is wood flooring from China. A full description of the scope of the Order is contained in the Issues and Decision Memorandum.

Analysis of Comments Received

All issues raised in the parties' case and rebuttal briefs are addressed in the Issues and Decision Memorandum. A list of these issues is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes From the Preliminary Results

Based on our analysis of the comments received, Commerce made certain revisions to the calculation of the preliminary weighted-average dumping margin assigned to Senmao and the non-examined, separate rate respondents. The Issues and Decision Memorandum contains descriptions of these revisions.

Final Determination of No Shipments

In the Preliminary Results, Commerce determined that certain companies did not have shipments of subject merchandise during the POR. As we received no information to contradict our preliminary determination with respect to those companies, we continue to find that they made no shipments of subject merchandise to the United States during the POR. Accordingly, we will issue appropriate instructions that are consistent with our “automatic assessment” clarification for all of the companies listed in Appendix II.⁴

⁴ See Non-Market Economy Antidumping Proceedings: Assessment of Antidumping Duties, 76 FR 65694 (October 24, 2011) (Assessment Notice); see also the “Assessment Rates” section, infra.

Separate Rates

Consistent with the Preliminary Results, we determine that Senmao and two additional companies that were not selected for individual examination, Dalian Jaenmaken Wood Industry Co., Ltd. and Dalian Deerfu Wooden Product Co., Ltd., demonstrated their eligibility for separate rates.⁵

⁵ See Preliminary Results PDM at 8-11.

Rate for Non-Examined Separate Rate Respondents

The statute and Commerce's regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, Commerce's normal practice in determining the rate for separate-rate respondents not selected for individual examination, has been to average the weighted-average dumping margins of the selected companies, excluding rates that are zero, de minimis, or based entirely on facts available.⁶ However, when the weighted-average dumping margins established for all individually investigated respondents are zero, de minimis, or based entirely on facts available, section 735(c)(5)(B) of the Act permits Commerce to “use any reasonable method to establish the estimated all-others rate for exporters and producers not individually investigated, including averaging the estimated weighted-average dumping margins determined for the exporters and producers individually investigated.” ⁷

⁶ See Longkou Haimeng Mach. Co. v. United States, 581 F. Supp. 2d 1344, 1357-60 (CIT 2008) (affirming Commerce's determination to assign a 4.22 percent dumping margin to the separate rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

⁷ See Albemarle Corp. v. United States, 821 F.3d 1345 (Fed. Cir. 2016).

For the final results of this administrative review, we determine that the estimated weighted-average dumping margin for Senmao is not zero or de minimis. Thus, we are assigning Senmao's weighted-average dumping margin as the rate for the non-examined respondents which qualify for a separate rate in this review as a “reasonable method” for assigning a rate to the non-examined respondents.⁸

⁸ See section 735(c)(5)(B) of the Act.

The China-Wide Entity

Aside from the companies for which we made a final no-shipment determination, Commerce considers all other companies for which a review was requested, and which did not demonstrate separate rate eligibility, to be part of the China-wide entity.⁹

⁹ See Appendix III.

Final Results of Review

Commerce determines that the following weighted-average dumping margins exist for the period December 1, 2021, through November 30, 2022:

Producer/exporter | Weighted- average dumping margin (percent)
Jiangsu Senmao Bamboo and Wood Industry Co., Ltd | 19.78
Dalian Jaenmaken Wood Industry Co., Ltd | 19.78
Dalian Deerfu Wooden Product Co., Ltd | 19.78

Disclosure

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these final results of review. We intend to issue assessment instructions to CBP no earlier than 35 days after the date of publication of these final results. If a timely summons is filed at the U.S. Court of International Trade, the assessment instructions will direct CBP not to liquidate relevant entries until the time for parties to file a request for a statutory injunction has expired (i.e., within 90 days of publication).

For Senmao, whose weighted-average dumping margin is not zero or de minimis (i.e., less than 0.5 percent) in the final results of this review, and because we do not have entered values for all U.S. sales to a particular importer (or customer), Commerce calculated a per-unit assessment rate by dividing the total amount of dumping for reviewed sales of subject merchandise to that importer (or customer) by the total quantity sold to that importer (or customer).

We intend to instruct CBP to assess antidumping duties on all appropriate entries covered by this review when the importer-specific assessment rate calculated is above de minimis (i.e., 0.50 percent). To determine whether the duty assessment rates are de minimis, in accordance with the requirement set forth in 19 CFR 351.106(c)(2), we calculate importer- (or customer-) specific ad valorem ratios based on the estimated entered value. Where an importer-specific per-unit assessment rate is zero or de minimis, Commerce will instruct CBP to liquidate appropriate entries without regard to antidumping duties.¹⁰

¹⁰ See 19 CFR 351.106(c)(2).

For U.S. entries that were not reported in the U.S. sales data submitted by Senmao, but that entered under Senmao's case number (i.e., at Senmao's cash deposit rate), Commerce will instruct CBP to liquidate such entries at the cash deposit rate for the China-wide entity (i.e., 85.13 percent).¹¹ For the companies not individually examined in this administrative review that qualified for a separate rate, the assessment rate will be equal to the weighted-average dumping margin calculated for Senmao in these final results of review.

¹¹ See Multilayered Wood Flooring from the People's Republic of China: Final Results of Antidumping Duty Administrative Review and Final Determination of No Shipments: 2016-2017, 84 FR 38002, 38003 (August 5, 2019).

Consistent with Commerce's assessment practice in non-market economy cases, for the companies which Commerce determined had no shipments of the subject merchandise, any suspended entries made under those exporters' case numbers (i.e., at the exporters' rates) will be liquidated at the China-wide rate.¹²

¹² Id.; see also Assessment Notice.

Cash Deposit Requirements

The following cash deposit requirements will be effective upon publication of these final results for shipments of the subject merchandise entered, or withdrawn from warehouse, for consumption on or after the publication date, as provided by section 751(a)(2)(C) of the Act: (1) for companies which were found eligible for a separate rate in this review, the cash deposit rate will be 19.78 percent; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Notification to Importers

This notice also serves as a reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of countervailing duties.

Administrative Protective Order

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

Notification to Interested Parties

This determination is issued and published in accordance with sections 751(a) and 777(i)(1) of the Act, and 19 CFR 351.221(b)(5).

Dated: April 24, 2024.
Ryan Majerus, Deputy Assistant Secretary for Policy and Negotiations, performing the non-exclusive functions and duties of the Assistant Secretary for Enforcement and Compliance.

Appendix I—List of Topics Discussed in the Issues and Decision Memorandum

I. Summary

II. Background

III. Scope of the Order

IV. Changes Since the Preliminary Results

V. Discussion of the Issues

Comment 1: Correction of Ministerial Error in the Margin Calculation

Comment 2: Exclusion of Russia From Surrogate Values (SV)

Comment 3: Selection of Romania as the Primary Surrogate Country

Comment 4: Whether To Grant a Separate Rate to Dalian Jaenmaken Wood Industry Co., Ltd. (Dalian Jaenmaken)

Comment 5: Whether To Grant a By-Product Offset to Senmao

VI. Recommendation

Appendix II

No Shipments

Anhui Longhua Bamboo Product Co., Ltd.

Benxi Flooring Factory (General Partnership)

Dalian Shengyu Science And Technology Development Co., Ltd.

Dun Hua Sen Tai Wood Co., Ltd.

Dunhua City Dexin Wood Industry Co., Ltd.

Dunhua Shengda Wood Industry Co., Ltd.

HaiLin LinJing Wooden Products Co., Ltd.

Hunchun Xingjia Wooden Flooring Inc.

Huzhou Sunergy World Trade Co., Ltd.

Jiangsu Keri Wood Co., Ltd.

Jiangsu Mingle Flooring Co., Ltd

Jiangsu Simba Flooring Co., Ltd.

Jiashan On-Line Lumber Co., Ltd.

Kingman Wood Industry Co., Ltd.

Linyi Youyou Wood Co., Ltd.

Power Dekor Group Co., Ltd.

Sino-Maple (Jiangsu) Co., Ltd.

Suzhou Dongda Wood Co., Ltd.

Zhejiang Dadongwu Greenhome Wood Co., Ltd.

Zhejiang Longsen Lumbering Co., Ltd.

Zhejiang Shiyou Timber Co., Ltd.

Appendix III

China-Wide Entity

Benxi Wood Company

Dalian Jiahong Wood Industry Co., Ltd.

Dalian Penghong Floor Products Co., Ltd./Dalian Shumaike Floor Manufacturing Co., Ltd.

Dunhua City Hongyuan Wood Industry Co., Ltd.

Huzhou Chenghang Wood Co., Ltd.

Huzhou Fulinmen Imp. & Exp. Co., Ltd.

Jiangsu Guyu International Trading Co., Ltd.

Jiangsu Yuhui International Trade Co., Ltd.

Jiashan HuiJiaLe Decoration Material Co., Ltd.

Jiaxing Hengtong Wood Co., Ltd

Lauzon Distinctive Hardwood Flooring, Inc.

Linyi Anying Wood Co., Ltd.

Metropolitan Hardwood Floors, Inc.

Muchsee Wood (Chuzhou) Co., Ltd.

Tongxiang Jisheng Import and Export Co., Ltd.

Yekalon Industry Inc.

Yihua Lifestyle Technology Co., Ltd. (successor-in-interest to Guangdong Yihua Timber Industry Co., Ltd.)

Yingyi-Nature (Kunshan) Wood Industry Co., Ltd.

Zhejiang Fuerjia Wooden Co., Ltd.

Zhejiang Shuimojiangnan New Material Technology Co., Ltd.

Zhejiang Simite Wooden Co., Ltd.

[FR Doc. 2024-09316 Filed 4-30-24; 8:45 am]

BILLING CODE 3510-DS-P